DEPARTMENT OF DEFENSE

Department of the Navy

Information on Surplus Land at a Military Installation Designated for Disposal: Naval Station Pascagoula, Mississippi

AGENCY: Department of the Navy, DoD.

ACTION: Notice.

SUMMARY: This notice provides information on withdrawal of surplus property at Naval Station Pascagoula, Mississippi, Lakeside Manor Housing Area.

FOR FURTHER INFORMATION CONTACT: Ms. Kimberly Kesler, Director, Base Realignment and Closure Program Management Office, 1455 Frazee Road, San Diego, CA 92108-4310, telephone 619-532-0993; or Mr. James E. Anderson, Director, Base Realignment and Closure Program Management Office, Southeast, 4130 Faber Place Drive, Suite 202, North Charleston, SC 29405, telephone 843-743-2147.

SUPPLEMENTARY INFORMATION: In 2005, Naval Station Pascagoula, including the Lakeside Manor, was designated for closure under the authority of the Defense Base Closure and Realignment Act of 1990, Public Law 101-510, as amended (the Act). On May 10, 2006, Navy published a Notice in the Federal Register (71 FR 27237 and 27238) that land and facilities at this installation were declared surplus to the needs of the Federal Government. Land and facilities previously reported as surplus are now required by the Federal Government to satisfy military housing requirements in the Gulf Coast region.

Notice of Surplus Property. Pursuant to paragraph (7)(B) of Section 2905(b) of the Act, as amended by the Base Closure Community Redevelopment and Homeless Assistance Act of 1994, the following information regarding the withdrawal of previously reported surplus property at Naval Station Pascagoula, Mississippi, is provided.

Withdrawn Property Description. The surplus determination for the following land and facilities at Naval Station Pascagoula, Mississippi, is withdrawn.

a. Land. Naval Station Pascagoula, Mississippi, Lakeside Manor consists of approximately 33 acres of improved fee simple land located within Jackson County and the City of Pascagoula.

b. Buildings. The following is a summary of the buildings and other improvements located on the above-described land that will also be withdrawn.

(1) Bachelor quarters housing (2 structures).

Comments: Approximately 186,400 square feet.

(2) Maintenance facility (1 structure).

Comments: Approximately 2,500 square feet.

(3) Miscellaneous facilities (4 structures).

Comments: Approximately 2,000 square feet. Includes guard shack, auto hobby shop, wash rack and restroom.

(4) Paved areas. Comments: Approximately 13,300 square yards of roads, parking lots, sidewalks, etc.

(5) Recreational facilities include ball fields, playgrounds, and indoor recreation areas.

Dated: July 1, 2011.
D.J. Werner,
Lieutenant Commander, Office of the Judge Advocate General, U.S. Navy, Alternate Federal Register Liaison Officer.

[FR Doc. 2011-17148 Filed 7-7-11; 8:45 am]

BILLING CODE 3810-FF-P